DEPARTMENT OF ENERGY

Federal Energy Regulatory Commission

[Docket No. EL02-44-000]

Indeck Maine Energy, L.L.C., Complainant, v. ISO New England, Inc., Respondent; Notice of Complaint

December 28, 2001.

Take notice that on December 27, 2001, Indeck Maine Energy, L.L.C. (Indeck Maine) filed a Complaint and Request for Appointment of Settlement Judgement against the ISO New England, Inc. (ISO NE) requesting that the Federal Energy Regulatory Commission (Commission) find (i) ISO-NE's actions in soliciting and contracting for Indeck Maine's electrical energy for October 16 and 17, 1999; and October 21, 23 and 26, 1999, to support system reliability were not barred by NEPOOL Market Rule and Procedure 5 (MRP); (ii) that ISO-NE's requests were outside the scope of the real time market and the day-ahead dispatch; (iii) that MRP 17 does not apply to Indeck Maine's October 16, 1999, operations under the facts of this case; and (iv) to the extent MRP 17 did apply to the facts of this case, under the facts of this case ISO-NE did not implement MRP 17 in the manner required by the rule.

Any person desiring to be heard or to protest this filing should file a motion to intervene or protest with the Federal Energy Regulatory Commission, 888 First Street, NE., Washington, DC 20426, in accordance with rules 211 and 214 of the Commission's rules of practice and procedure (18 CFR 385.211 and 385.214). All such motions or protests must be filed on or before January 16, 2002. Protests will be considered by the Commission in determining the appropriate action to be taken, but will not serve to make protestants parties to the proceeding. Any person wishing to become a party must file a motion to intervene. Answers to the complaint shall also be due on or before January 16, 2002. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 02-174 Filed 1-3-02; 8:45 am]

BILLING CODE 6717-01-P